DEPARTMENT OF ENERGY

Federal Energy Regulatory Commission

Combined Notice of Filings #1

Take notice that the Commission received the following electric corporate filings:

Docket Numbers: EC15-109-000.

Applicants: Bicent Power LLC, Tanner Street Generation, LLC.

Description: Application for Authorization for Disposition of Jurisdictional Facilities and Request for Expedited Action of Bicent Power LLC, et al.

Filed Date: 4/1/15.

Accession Number: 20150401-5734.

Comments Due: 5 p.m. ET 4/22/15.

Take notice that the Commission received the following electric rate filings:

Docket Numbers: ER15-710-002.

Applicants: Arizona Public Service Company.

Description: Tariff Amendment per 35.17(b): Service Agreement No. 341—Revised Exhibit A to be effective 1/1/2015.

Filed Date: 4/2/15.

Accession Number: 20150402-5201.

Comments Due: 5 p.m. ET 4/23/15.

Docket Numbers: ER15-1080-001.

Applicants: Beethoven Wind, LLC.

Description: Tariff Amendment per 35.17(b): Amendment to new to be effective 2/27/2015.

Filed Date: 4/2/15.

Accession Number: 20150402-5236.

Comments Due: 5 p.m. ET 4/13/15.

Docket Numbers: ER15-1430-000.

Applicants: Appalachian Power Company.

Description: Section 205(d) rate filing per 35.13(a)(2)(iii): Reactive Supply and Voltage Control Amendment to be effective 6/1/2015.

Filed Date: 4/1/15.

Accession Number: 20150401-5488.

Comments Due: 5 p.m. ET 4/22/15.

Docket Numbers: ER15-1431-000.

Applicants: Public Service Company of Colorado.

Description: Section 205(d) rate filing per 35.13(a)(2)(iii): 2015-04-01_PSCo-THRM-IA-114-0.0.0—Filing to be effective 6/1/2015.

Filed Date: 4/1/15.

Accession Number: 20150401-5492.

Comments Due: 5 p.m. ET 4/22/15.

Docket Numbers: ER15-1432-000.

Applicants: AEP Generation Resources Inc.

Description: Section 205(d) rate filing per 35.13(a)(2)(iii): Reactive Supply and Voltage Control Amendment to be effective 6/1/2015.

Filed Date: 4/1/15.

Accession Number: 20150401-5493.

Comments Due: 5 p.m. ET 4/22/15.

Docket Numbers: ER15-1433-000.

Applicants: Public Service Company of New Mexico.

Description: Application of Public Service Company of New Mexico for 2015 Transmission Formula Rate for Post-Retirement Benefits Other than Pensions.

Filed Date: 4/1/15.

Accession Number: 20150401-5505.

Comments Due: 5 p.m. ET 4/22/15.

Docket Numbers: ER15-1434-000.

Applicants: ISO New England Inc., Emera Maine.

Description: Section 205(d) rate filing per 35.13(a)(2)(iii): Emera Maine—Schedule 20A and 21 to be effective 6/1/2015.

Filed Date: 4/1/15.

Accession Number: 20150401-5519.

Comments Due: 5 p.m. ET 4/22/15.

Docket Numbers: ER15-1435-000.

Applicants: Midcontinent Independent System Operator, Inc.

Description: Section 205(d) rate filing per 35.13(a)(2)(iii): 2015-04-01 Perfect Unit Adjustment Filing to be effective 6/1/2015.

Filed Date: 4/1/15.

Accession Number: 20150401-5529.

Comments Due: 5 p.m. ET 4/22/15.

Docket Numbers: ER15-1436-000.

Applicants: Entergy Arkansas, Inc., Entergy Louisiana, LLC, Entergy Mississippi, Inc., Entergy New Orleans, Inc., Entergy Texas, Inc., Entergy Gulf States Louisiana, L.L.C.

Description: Baseline eTariff Filing per 35.1: OpCos Tax—Pension Costs 205 Filing 4-1-2015 to be effective 12/31/9998.

Filed Date: 4/1/15.

Accession Number: 20150401-5588.

Comments Due: 5 p.m. ET 4/22/15.

Docket Numbers: ER15-1437-000.

Applicants: Entergy Texas, Inc., Entergy Gulf States Louisiana, L.L.C.

Description: Section 205(d) rate filing per 35.13(a)(2)(iii): EGSL-ETI Acquisition Adjustment to be effective 12/31/9998.

Filed Date: 4/1/15.

Accession Number: 20150401-5609.

Comments Due: 5 p.m. ET 4/22/15.

Docket Numbers: ER15-1438-000.

Applicants: Southern California Edison Company.

Description: Section 205(d) rate filing per 35.13(a)(2)(iii): GIA and Distribution Service Agmt with SunEdison Standard Ave. Santa Ana Project to be effective 4/3/2015.

Filed Date: 4/2/15.

Accession Number: 20150402-5001.

Comments Due: 5 p.m. ET 4/23/15.

Docket Numbers: ER15-1439-000.

Applicants: Southern California Edison Company.

Description: Tariff Withdrawal per 35.15: Cancellation GIAs for Boomer Solar 8 LLC and Boomer Solar 14 LLC to be effective 4/8/2015.

Filed Date: 4/2/15.

Accession Number: 20150402-5002.

Comments Due: 5 p.m. ET 4/23/15.

Docket Numbers: ER15-1440-000.

Applicants: Midcontinent Independent System Operator, Inc., Cleco Power LLC.

Description: Section 205(d) rate filing per 35.13(a)(2)(iii): 2015-04-02_Cleco Power—City of Alexandria, LA JPZ Agreement to be effective 12/1/2014.

Filed Date: 4/2/15.

Accession Number: 20150402-5147.

Comments Due: 5 p.m. ET 4/23/15.

Docket Numbers: ER15-1441-000.

Applicants: NorthWestern Corporation.

Description: Tariff Withdrawal per 35.15: Notices of Cancellation and Termination—Service Agreements to be effective 4/3/2015.

Filed Date: 4/2/15.

Accession Number: 20150402-5184.

Comments Due: 5 p.m. ET 4/23/15.

Docket Numbers: ER15-1442-000.

Applicants: Municipal Energy of PA, LLC.

Description: Initial rate filing per 35.12 Market-Based Rate Tariff Application to be effective 5/1/2015.

Filed Date: 4/2/15.

Accession Number: 20150402-5199.

Comments Due: 5 p.m. ET 4/23/15.

Take notice that the Commission received the following land acquisition reports:

Docket Numbers: LA15-1-000.

Applicants: Lea Power Partners, LLC.

Description: Quarterly Land Acquisition Report of Lea Power Partners, LLC.

Filed Date: 4/1/15.

Accession Number: 20150401-5732.

Comments Due: 5 p.m. ET 4/22/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 2, 2015.
Nathaniel J. Davis, Sr.,
Deputy Secretary.

[FR Doc. 2015-08092 Filed 4-8-15; 8:45 am]

BILLING CODE 6717-01-P